FEDERAL COMMUNICATIONS COMMISSION

47 CFR Part 73

[DA 02-1899, MB Docket No. 02-104, RM-10390]

Digital Television Broadcast Service; Dawson, Pelham, Savannah, Waycross, and Wrens, GA

AGENCY: Federal Communications Commission.

ACTION: Final rule.

SUMMARY: The Commission, at the request of Georgia Public Telecommunications Commission, licensee of stations WCES-TV, WVAN-TV, WXGA-TV, WACS-TV, and WABW-TV, substitutes DTV channel *2 for DTV channel *36 at Wrens; DTV channel *13 for DTV channel *46 at Savannah; DTV channel *9c for DTV channel *18 at Waycross; DTV channel *8 for DTV channel *26c at Dawson; and DTV channel *5 for DTV channel DTV *20 at Pelham. See 67 FR 36137, May 23, 2002. DTV channels *2, *13, *9c, *8 and *5 can be allotted to Wrens, Savannah, Waycross, Dawson, and Pelham, Georgia, in compliance with the principle community coverage requirements of Section 73.625(a). DTV Channel *2 can be allotted with a power of 4.9, (HAAT) of 436 meters; DTV channel *13 with a power of 10, (HAAT) of 293; DTV channel *9 with a power of 4.6 and (HAAT) of 286 meters; DTV channel *8 with a power of 4.9 and (HAAT) of 331 meters; and DTV channel *5 with a power of 0.75 and (HAAT) of 474 meters. With this action, this proceeding is terminated.

DATES: Effective September 23, 2002.

FOR FURTHER INFORMATION CONTACT: Pam Blumenthal, Media Bureau, (202) 418-1600.

SUPPLEMENTARY INFORMATION: This is a synopsis of the Commission's Report and Order, MB Docket No. 02-104, adopted August 2, 2002, and released August 9, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Georgia, is amended by removing DTV Channel *26c and adding DTV Channel *8 at Dawson.

3. Section 73.622(b), the Table of Digital Television Allotments under Georgia, is amended by removing DTV Channel *20 and adding DTV Channel *5 at Pelham.

4. Section 73.622(b), the Table of Digital Television Allotments under Georgia, is amended by removing DTV Channel *46 and adding DTV Channel *13 at Savannah.

5. Section 73.622(b), the Table of Digital Television Allotments under Georgia, is amended by removing DTV Channel *18 and adding DTV Channel *9c at Waycross.

6. Section 73.622(b), the Table of Digital Television Allotments under Georgia, is amended by removing DTV Channel*36 and adding DTV Channel *2 at Wrens.

Federal Communications Commission.
Barbara A. Kreisman,
Chief, Video Division, Media Bureau.

[FR Doc. 02-20591 Filed 8-13-02; 8:45 am]

BILLING CODE 6712-01-P